DEPARTMENT OF EDUCATION

Privacy Act of 1974; Matching Program; Correction

AGENCY: Office of Federal Student Aid, Department of Education.

ACTION: Notice; correction.

SUMMARY: On March 8, 2021, the Department of Education (Department) published in the Federal Register a notice announcing the reestablishment of a matching program between the Department and the Social Security Administration (SSA) to assist the Department in its obligation to ensure that applicants for student financial assistance under title IV of the Higher Education Act of 1965, as amended, satisfy eligibility requirements. This notice corrects language in that notice by removing references to an SSA-restricted data field, date of death, and by more closely mirroring the description of the purpose in the computer matching agreement. All other information in the March 8, 2021 Federal Register notice, remains the same.

DATES: This correction is applicable on March 26, 2021.

FOR FURTHER INFORMATION CONTACT: Gerard Duffey, Management and Program Analyst, Wanamaker Building, U.S. Department of Education, Federal Student Aid, 100 Penn Square East, Suite 509.B10, Philadelphia, PA 19107. Telephone: (215) 656-3249.

If you use a telecommunications device for the deaf (TDD) or a text telephone (TTY), call the Federal Relay Service (FRS), toll-free, at 1-800-877-8339.

SUPPLEMENTARY INFORMATION: Corrections:

In FR Doc 2021-04710 appearing on page 13355-13356 in the Federal Register of March 8, 2021 (86 FR 13355), the following corrections are made:

1. On page 13356, in the first column, the two paragraphs under the heading “Purpose(s)” are revised to read as follows:

The purpose of this matching program is to assist the U.S. Department of Education (ED) in its obligation to ensure that applicants for student financial assistance under Title IV of the Higher Education Act of 1965, as amended (HEA) (20 U.S.C. 1070 et seq.), satisfy eligibility requirements. This matching program establishes the terms, safeguards, and procedures under which the Social Security Administration (SSA) will provide ED Social Security number (SSN) verification, citizenship status as recorded in SSA records, and death indicators (when applicable).

2. On page 13356, in the second column, in the second paragraph that follows the heading “Categories of Records”, in the fourth sentence, remove “date of death” and, in its place, add “death indicator”.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Robin Minor,
Acting Chief Operating Officer, Federal Student Aid.

[FR Doc. 2021-06262 Filed 3-25-21; 8:45 am]

BILLING CODE 4000-01-P